DEPARTMENT OF HEALTH AND HUMAN SERVICES

Centers for Disease Control and Prevention (CDC)

[Program Announcement 00140]

Announcement Grant to the Marin County Department of Health and Human Services, California

A. Purpose

The Centers for Disease Control and Prevention (CDC) announces the availability of fiscal year (FY) 2000 funds for a grant to the Marin County Department of Health and Human Services (MCDHHS)in California to evaluate the high incidence of breast cancer in Marin County.

CDC is committed to achieving the health promotion and disease prevention objectives of “Healthy People 2010,” a national activity to reduce mortality and morbidity and improve the quality of life. This announcement is related to the focus area of cancer. For the conference copy of “Healthy People 2010,” visit the Internet site: <http://www.health.gov/healthypeople>

The purpose of the program is for MCDHHS community-based investigation of the high incidence of breast cancer and possible causes of increased risks of breast cancer in this region of California.

B. Eligible Applicant

Assistance will be provided only to the Marin County Department of Health and Human Services, California. No other applications are solicited. The sole source justification is based on the Congressional language in FY 2000 CDC appropriation, which earmarked funding for Marin County Department of Health and Human Services, Marin County, California.

Note: Public Law 104-65 states that an organization described in section 501(c)(4) of the Internal Revenue Code of 1986 that engages in lobbying activities is not eligible to receive Federal funds constituting an award, grant, cooperative agreement, contract, loan, or any other form.

C. Availability of Funds

Approximately $250,000 is available in FY 2000 to fund the MCDHHS. It is expected that the award will begin on or about September 30, 2000, for a 12 month budget period with a project period of up to 18 months.

Use of Funds

The grant funds may not be expended to provide inpatient hospital or treatment services. Treatment is defined as any service recommended by a clinician, including medical and surgical intervention provided in the management of a diagnosed condition.

D. Program Requirements

In conducting activities to achieve the purpose of this project, the recipient shall be responsible for the following activities:

1. Investigate suspected environmental risk factors for breast cancer.

2. Develop, implement, and evaluate effective collaborations among public, non-profit and private partners to achieve and support breast cancer control objectives.

3. Develop and evaluate training for professionals in cancer early detection, surveillance and data analysis. Sponsor information exchanges through workshops, and other group mechanisms as appropriate.

4. Develop a research plan for investigating environmental risk factors with a protocol for mapping environmental factors of women with and without breast cancer.

5. Develop plans for sharing and disseminating the results of the project.

E. Application Content

Use the information in the Program Requirements, Other Requirements, and Evaluation Criteria sections to develop the application content. The application will be evaluated on the criteria listed in Part G. of this announcement, so it is important to consider them in laying out the project plan. The narrative should be no more than 10 double-spaced pages, printed on one side, with one inch margins, and unreduced font. The application pages should be numbered and a complete index to the application and its appendixes included. Begin each separate section on a new page. The original and each copy of the application must be submitted unstapled, unbound, and typed on a 8½″ by 11″ paper, with at least 1″ margins, headings and footers, and printed on one side only using unreduced font. The “narrative” portion of the application should address the following:

1. Statement of Need

Identify and describe the nature and extent of the problem for which assistance is requested.

2. Short and Long-Term Objectives

Describe objectives that must be specific, measurable, time phased, and realistic.

3. Operational Plan

Address the means for achieving each of the objectives. Provide a concise description of each component or major activity and how it will be implemented. The plan must identify and establish a time line for the completion of each component or major activity.

4. Evaluation Plan

Provide a quantitative plan for monitoring progress toward achieving each of the objectives.

5. Program Management

Describe the functions and qualification for each of the program personnel requested.

6. Budget

Provide a detailed budget and justification for the costs that are consistent with the purpose of the program and the proposed project activities.

F. Submission and Deadline

On or before July 20, 2000, submit the application to the Grants Management Specialist identified in the “Where to Obtain Additional Information” section of this announcement. Submit the original and two copies of CDC Form 0.1246. Forms are in the application kit.

G. Evaluation Criteria

Each application will be evaluated individually against the following criteria by an independent review group appointed by CDC.

1. Need statement. The extent to which the applicant identifies specific needs related to the purpose of the program. (20 points)

2. Objectives. The degree to which short- and long-term objectives are specific, time-phased, measurable, and realistic. (20 points)

3. Operational Plans. The adequacy of the applicant's plan to carry out the proposed activities, including the extent to which they plan to work collaboratively with other organizations and individuals who may have an impact on cancer prevention and control objectives. (20 points)

4. Evaluation Plan. The extent to which the evaluation plan appears capable of monitoring progress toward meeting project objectives. (20 points)

5. Program Management. The extent to which proposed staff appear to be qualified and possess capacity to perform the project. (20 points)

6. Budget. The extent to which the budget along with narrative justification is reasonable and consistent with the purpose and objectives of the program (Not scored).

H. Other Requirements

Technical Reporting Requirements

An original and two copies of a progress report is required no later than 90 days after the end of the first twelve months. A Financial Status Report and a final performance report are required no later than 90 days after the end of the project period. All reports are submitted to the Grants Management Branch, CDC, identified in the last section of this announcement.

The following additional requirements are applicable to this program. For a complete description of each, see Attachment I in the application kit.

AR-7 Executive Order 12372 Review

AR-8 Paperwork Reduction Act Requirements

AR-10 Smoke-Free Workplace Requirements

AR-11 Healthy People 2010

AR-12 Lobbying Restrictions

AR-21 Small, Minority, And Women-owned Business

I. Authority and Catalog of Federal Domestic Assistance Number

This program is authorized under section 301(a), 317(k)(2) of the Public Health Service Act [42 U.S.C. 241(a) and 247b(k)(2)], as amended. The Catalog of Federal Domestic Assistance Number for this program is 93.283.

J. Where To Obtain Additional Information

This announcement and other CDC program announcements can be found on the CDC home page Internet address at: http://www.cdc.gov.

If you have questions after reviewing the contents of all the documents, business management assistance may be obtained from: Cynthia Collins, Grants Management Specialist, Grants Management Branch, Procurement and Grants Office, Announcement 00140, Centers for Disease Control and Prevention, 2920 Brandywine Road, Room 3000, Atlanta, Georgia 30341-4146 Telephone Number: 770/488-2757, E-mail address: coc9@cdc.gov.

For program technical assistance, contact: Denita Dean, Division of Cancer Prevention and Control, National Center for Chronic Disease Prevention and Health Promotion, Centers for Disease Control and Control and Prevention (CDC), Mail Stop K-55, 4770 Buford Highway, NE, Atlanta, GA 30341-3724, Telephone Number: 770/488-4227, FAX Number: 770/488-4639, E-mail address: djd5@cdc.gov.

Dated: May 23, 2000.
John L. Williams,
Director, Procurement and Grants Office, Centers for Disease Control and Prevention (CDC).

[FR Doc. 00-13389 Filed 5-26-00; 8:45 am]

BILLING CODE 4163-18-P